DEPARTMENT OF JUSTICE

Bureau of Prisons

Notice of Cancellation of the Programmatic Environmental Impact Statement for Housing the Criminal Alien Population in Non-Federal Low-Security Correctional Facilities

AGENCY: U.S. Department of Justice Bureau of Prisons.

ACTION: Notice of cancellation of the programmatic environmental impact statement.

SUMMARY:

Proposed Action

The mission of the Federal Bureau of Prisons (Bureau) is to protect society by confining offenders in the controlled environments of prison and community-based facilities that are safe, humane, cost-efficient, and appropriately secure, and that provide work and other self-improvement opportunities to assist offenders in becoming law-abiding citizens. In addition, the Bureau supports the U.S. Marshals Service in its efforts to house the growing number of unsentenced Federal detainees, and the Immigration and Naturalization Service in the rapidly increasing requirements for the detention of sentenced and unsentenced aliens awaiting hearings and/or release or repatriation to their country of origination. The Bureau accomplishes its mission through the appropriate use of community correction, detention, and correctional facilities that are either: Federally-owned and operated; Federally-owned and non-Federally operated; and non-Federally owned and operated.

The Bureau is facing a period of unprecedented growth in its inmate population. Projections show the federal inmate population increasing from approximately 120,000 inmates to 205,000 inmates by 2007. As such, the demand for bed space within the federal prison system will continue to grow at a significant rate. A portion of this growth is the result of programs implemented by the Immigration and Naturalization Service regarding sentenced and unsentenced aliens. Correctional institutions at the low security level will be impacted immediately because sentenced and unsentenced aliens are typically housed at the low security level. Due to the current shortage of beds, especially at the low security level, the Bureau has been forced to manage its population by designating minimum and medium security level institutions as low security institutions which, in turn, creates a domino effect for all other security levels. The projected population of sentenced and unsentenced aliens will only exacerbate these population pressures.

Over the past several years, the Bureau has sought flexibility in managing the shortage of beds in the low security level as well as the anticipated sharp and/or short-term increases at this security level. Such management flexibility would have to meet population capacity needs in a timely fashion, comport with federal law, and maintain fiscal responsibility, all while successfully attaining the mission of the Bureau. Management flexibility includes the appropriate contracting of non-federal correctional facilities.

To ensure compliance with the National Environmental Policy Act of 1969, 42 U.S.C. 4321 (NEPA) as amended, the Bureau initiated preparation of a Draft Programmatic Environmental Impact Statement in April 1999. The Draft Programmatic Environmental Impact Statement was intended to identify and analyze potential impacts to the natural and manmade environments resulting from use of non-federal correctional facilities to house the criminal alien population. Topics to be studied as part of the Draft Programmatic Environmental Impact Statement include: topography, geology/soils, hydrology, biological resources, utility services, transportation services, cultural resources, land uses, social and economic factors, hazardous materials, air and noise quality, among others. As part of that effort, the Bureau hosted Scoping Meetings to afford the public, regulatory agency representatives, and elected officials an opportunity to learn about and voice their interests and concerns regarding the use of private contract correctional facilities and the Draft Programmatic EIS effort. The Scoping Meetings were held on April 29, 1999 Philadelphia, Pennsylvania; May 4, 1999 in Dallas, Texas; and May 6, 1999 in San Diego, California and were attended by interested members of the public.

While preparing the Draft Programmatic EIS, the Bureau reviewed its environmental compliance policies and procedures for the CAR program and has decided to pursue alternative arrangements for complying with NEPA. More specifically, the Bureau determined that evaluating the development of Federal and contract correctional facilities was best performed on a case-by-case basis. An individualized approach to project evaluation carries with it the advantages of site-specific evaluations, greater public participation, and tailored mitigation plans. As a result, the Bureau has decided to cancel the Programmatic EIS and instead concentrate its efforts and resources at preparing individual, site-specific Environmental Impact Statements for facilities proposed to house the criminal alien population.

ADDRESSES: Questions concerning this matter may be directed to: David J. Dorworth, Chief, Site Selection and Environmental Review Branch, U.S. Department of Justice, Federal Bureau of Prisons, 320 First Street, N.W., Washington, D.C. 20534, Telephone: 202-514-6470, Facsimile: 202-616-6024, e-mail: siteselection@bop.gov.

Dated: May 5, 2000.
David J. Dorworth,
Chief, Site Selection & Environmental Review Branch.

[FR Doc. 00-11789 Filed 5-11-00; 8:45 am]

BILLING CODE 4410-05-P